ENVIRONMENTAL PROTECTION AGENCY

40 CFR Part 70

[EPA-R09-OAR-2025-0038; FRL-12574-01-R9]

Revisions to the Clean Air Act Operating Permit Program; California; San Diego County Air Pollution Control District

AGENCY: Environmental Protection Agency (EPA).

ACTION: Proposed rule.

SUMMARY: The Environmental Protection Agency (EPA) is proposing approval of revisions to the Clean Air Act (CAA or “Act”) Operating Permit Program (title V) of the San Diego County Air Pollution Control District (SDCAPCD or “District”) in California. Once approved, these revisions will update the District's public noticing requirements to conform to current federal requirements for title V programs. We are taking comments on these proposed revisions and are simultaneously publishing our final action approving these revisions in a direct final rule.

DATES: Written comments must be received on or before October 6, 2025.

ADDRESSES: Submit your comments, identified by Docket ID No. EPA-R09-OAR-2025-0038 at https://www.regulations.gov. For comments submitted at Regulations.gov, follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, please contact the person identified in the FOR FURTHER INFORMATION CONTACT section. For the full EPA public comment policy, information about CBI or multimedia submissions, and general guidance on making effective comments, please visit https://www.epa.gov/dockets/commenting-epa-dockets. If you need assistance in a language other than English or if you are a person with disabilities who needs a reasonable accommodation at no cost to you, please contact the person identified in the FOR FURTHER INFORMATION CONTACT section.

FOR FURTHER INFORMATION CONTACT: Camille Cassar, EPA Region IX, 75 Hawthorne St., San Francisco, CA 94105; phone (415) 947-4164, email: cassar.camille@epa.gov.

SUPPLEMENTARY INFORMATION: Throughout this document, “we,” “us,” and “our” refer to the EPA. This proposal addresses the following local rule: SDCAPCD Rule 1415, “Title V Operating Permits—Permit Process—Public Notification.” In the Rules and Regulations section of this Federal Register, the EPA is approving the District's submission as a direct final rule without prior proposal because we view this as a noncontroversial action and anticipate no adverse comments. A detailed rationale for the action is set forth in the preamble to the direct final rule. If the EPA receives no adverse comments, the EPA contemplates no further action. If the EPA receives adverse comments, the EPA will withdraw the direct final rule and will address all public comments in a subsequent final rule based on this proposed rule. We do not plan to open a second comment period on this action, so anyone interested in commenting should do so at this time. Please note that if the EPA receives an adverse comment on an amendment, paragraph, or section of this rule and if that provision may be severed from the remainder of the rule, the EPA may adopt as final those provisions of the rule that are not the subject of an adverse comment. For additional information, see the direct final rule of the same title that is located in the Final Rules section of this Federal Register.

Table of Contents

I. Title V Background

II. What are the requirements for approval of revisions to Title V programs?

III. What is the State's proposed Title V program revision?

I. Title V Background

The CAA Amendments of 1990 include title V, which requires states to develop an operating permits program that meets the Federal criteria codified in title 40 of the Code of Federal Regulations (CFR) part 70. The title V program requires certain sources of air pollution to obtain federal operating permits from their respective states. These federal operating permits improve enforcement and compliance by consolidating all applicable federal requirements into one federally enforceable document. Before a state can issue permits under 40 CFR part 70 (which are referred to as “title V permits”), the EPA must approve its programs as amendments to appendix A of 40 CFR part 70. States may submit revisions to their approved programs for EPA approval. See EPA's Technical Support Document (TSD) for a more detailed discussion of the history of the title V program approvals for SDCAPCD.

II. What are the requirements for approval of revisions to Title V programs?

Pursuant to 40 CFR 70.4(i), either the EPA or the state may initiate a title V program revision “when the relevant Federal or State statutes or regulations are modified or supplemented.” It is the responsibility of the state to keep the EPA apprised of any proposed modifications to its basic statutory or regulatory authority or procedures. Additional details on the steps necessary to submit a title V program revision can be found in the TSD for this action.

III. What is the State's proposed Title V program revision?

Table 1 lists the rule submitted as part of the SDCAPCD's title V program revisions and the date that it was adopted by the District and submitted by the California Air Resources Board (CARB), which is the governor's designee for California rule submittals.

Table 1—Submitted Rule
Rule No. | Rule title | Amended date | Submitted date ᵇ
1415 | Title V Operating Permits—Permit Process—Public Notification | 10/12/2023 | 1/19/2024
ᵇ CARB transmitted the submittal to the EPA by a letter dated January 19, 2024.

The District submitted revisions to Rule 1415 (Title V Operating Permits—Permit Process—Public Notification) at sections (a), (c), (d), (g), and (j) to conform to current public noticing, application publication, and record retention requirements codified in 40 CFR 70.5(c), 70.7(h) and 40 CFR 70.6(a)(3)(ii)(B). Details regarding the revisions made including a change-copy of Rule 1415 can be found in the appropriate docket files.

List of Subjects in 40 CFR Part 70

Environmental protection, Administrative practice and procedure, Air pollution control, Intergovernmental relations, Reporting and recordkeeping requirements.

Authority: 42 U.S.C. 7401 et seq.

Dated: August 18, 2025.
Joshua F.W. Cook,
Regional Administrator, Region IX.

[FR Doc. 2025-17038 Filed 9-4-25; 8:45 am]

BILLING CODE 6560-50-P